DEPARTMENT OF AGRICULTURE

Natural Resources Conservation Service

Notice of Proposed Changes to the Natural Resources Conservation Service's National Handbook of Conservation Practices

AGENCY: Natural Resources Conservation Service (NRCS), U.S. Department of Agriculture.

ACTION: Notice of availability of proposed changes in the NRCS National Handbook of Conservation Practices for public review and comment.

SUMMARY: Notice is hereby given of the intention of NRCS to issue a series of new or revised conservation practice standards in its National Handbook of Conservation Practices. These standards include: “Conservation Cover (Code 327)”, “Contour Farming (Code 330)”, “Contour Buffer Strips (Code 332)”, “Critical Area Treatment (Code 342)”, “Field Border (Code 386)”, “Irrigation System, Tailwater Recovery (Code 447)”, “Sinkhole and Sinkhole Area Treatment (Code 527)”, and “Prescribed Grazing (Code 528).” NRCS State Conservationists who choose to adopt these practices for use within their States will incorporate them into Section IV of their respective electronic Field Office Technical Guides (eFOTG). These practices may be used in conservation systems that treat highly erodible land or on land determined to be a wetland.

DATES: Comments will be received for a 30-day period commencing with this date of publication. Final versions of these new or revised conservation practice standards will be adopted after the close of the 30-day period, after consideration of all comments.

ADDRESSES: Comments should be submitted by one of the following methods:

1. By replying directly to this Notice through the automatic comment feature of the Federal Register;

2. In writing to: National Agricultural Engineer, Natural Resources Conservation Service, Post Office Box 2890, Room 6139-S, Washington, DC 20013-2890; or

3. Electronically by e-mail to: daniel.meyer@wdc.usda.gov.

FOR FURTHER INFORMATION CONTACT: Copies of these standards are attached to this Notice or can be downloaded or printed from the following Web site: ftp://ftp-fc.sc.egov.usda.gov/NHQ/practice-standards/federal-register/. Single copies of these standards are also available from NRCS in Washington, DC. Submit individual inquiries in writing to Daniel Meyer, National Agricultural Engineer, Natural Resources Conservation Service, Post Office Box 2890, Room 6139-S, Washington, DC 20013-2890, or electronically to daniel.meyer@wdc.usda.gov.

SUPPLEMENTARY INFORMATION: Section 343 of the Federal Agriculture Improvement and Reform Act of 1996 requires NRCS to make available for public review and comment proposed revisions to conservation practice standards used to carry out the highly erodible land and wetland provisions of the law. For the next 30 days, NRCS will receive comments relative to the proposed changes. Following that period, a determination will be made by NRCS regarding disposition of those comments and a final determination of changes will be made.

Signed in Washington, DC, on December 22, 2006.
Arlen L. Lancaster,
Chief.

[FR Doc. E7-469 Filed 1-16-07; 8:45 am]

BILLING CODE 3410-16-P